NATIONAL SCIENCE FOUNDATION

Advisory Panel for Cognitive, Psychological and Language Sciences; Notice of Meeting

In accordance with the Federal Advisory Committee Act (Pub. L. 92-463, as amended), the National Science Foundation (NSF) announces the following five meetings of the Advisory Panel for Cognitive, Psychological and Language Sciences (#1758);

1. Date/Time: April 18- April 20, 2001; 8:30 a.m.-5 p.m.

Place: National Science Foundation, 4201 Wilson Blvd., Arlington, VA.

Contact Person: Dr. Cecile M. McKee, Program Director for Linguistics, National Science Foundation, 4201 Wilson Boulevard, Suite 995, Arlingotn, VA 22230. Telephone: (703) 292-8731.

Type of Meeting: Part Open (April 20, 2001; 1 p.m.-3 p.m.) Otherwise closed.

Purpose of Meeting: To review and evaluate linguistics proposals as part of the selection process for awards.

2. Date/Time: May 7-May 9, 2001; 8:30 a.m.-5 p.m.

Place: National Science Foundation, 4201, Wilson Blvd., Arlington, VA.

Contact Person: Dr. Steven J. Breckler, Program Director for Social Psychology, National Science Foundation, 4201 Wilson Boulevard, Suite 995, Arlington, VA 22230. Telephone: (703) 292-8728.

Type of Meeting: Open Session: May 8, 2001; 1 p.m.-2:30 p.m. Otherwise meeting is closed.

Purpose of Meeting: To review and evaluate social psychology proposals as part of the selection process for awards.

3. Date/Time: May 15-May 17, 2001; 8:30 a.m.-5 p.m.

Place: National Science Foundation, 4201 Wilson Blvd., Arlington, VA.

Type of Meeting: Open Session: May 16, 2001; 10 a.m.-12 p.m. Otherwise meeting is closed.

Purpose of Meeting: To review and evaluate human cognition and perception proposals as part of the selection process for awards.

Contact Person: Dr. Joseph L. Young, Program Director for Human Cognition and Perception, National Science Foundation, 4201 Wilson Boulevard, Suite 995, Arlington, VA 22230. Telephone: (703) 292-8732.

4. Date/Time: May 24-25, 2001; 8:30 a.m.-5 p.m.

Place: National Science Foundation, 4201 Wilson Blvd., Arlington, VA.

Type of Meeting: Open Session: May 25, 2001; 10:30 a.m.-12 p.m. Otherwise meeting is closed.

Contact Person: Dr. Rodney R. Cocking, Program Director for Developmental and Learning Sciences, National Science Foundation, 4201 Wilson Boulevard, Suite 995, Arlington, VA 22230. Telephone: (703) 292-8732.

Purpose of Meeting: To review and evaluate developmental and learning science proposals as part of the selection process for awards.

5. Date/Time: May 30-June 1, 2001; 8:30 a.m.-5 p.m.

Place: National Science Foundation, 4201 Wilson Blvd., Arlington, VA.

Type of Meeting: Closed.

Contact Person: Dr. Steven J. Breckler, Program Director for Cognitive Neuroscience, National Science Foundation, 4201 Wilson Boulevard, Suite 995, Arlington, VA 22230. Telephone: (703) 292-8728.

Purpose of Meeting: To review and evaluate Cognitive Neuroscience proposals as part of the selection process for awards.

Reason for Closing: The proposals being reviewed include information of a proprietary or confidential nature, including technical information; financial data, such as salaries; and personal information concerning individuals associated with the proposals. These matters are exempt under 5 U.S.C. 552b(c)(4) and (6) of the Government in the Sunshine Act.

Dated: March 13, 2001.
Susanne Bolton,
Committee Management Officer.

[FR Doc. 01-6589 Filed 3-15-01; 8:45 am]

BILLING CODE 7555-01-M